COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes services from Procurement List that were furnished by nonprofit agencies employing persons who are blind or have other severe disabilities.

DATES: Date added to and deleted from the Procurement List: May 12, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 2/15/2019, 2/22/2019, 3/1/2019, 3/8/2019, 3/22/2019, 3/29/2019 and 4/5/2019, the Committee for Purchase From People Who Are Blind or Severely Disabled published notices of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Administrative Services

Mandatory for: GSA, Northeast Distribution Center: Federal Supply Service (3FS), Burlington, NJ

Mandatory Source of Supply: Occupational Training Center of Burlington County, Burlington, NJ

Contracting Activity: FEDERAL ACQUISITION SERVICE, GSA/FAS TOOLS ACQUISITION DIVISION II

Service Type: Janitorial/Custodial

Mandatory for: Social Security Administration District: 22 Morris Street Office Building, Hackensack, NJ

Mandatory Source of Supply: North Jersey Friendship House, Inc., Hackensack, NJ

Contracting Activity: HEALTH AND HUMAN SERVICES, DEPARTMENT OF, DEPT OF HHS

Service Type: Administrative Services for Catalog Distribution

Mandatory for: Defense Reutilization and Marketing Service Battle Creek, MI

Mandatory Source of Supply: Peckham Vocational Industries, Inc., Lansing, MI

Contracting Activity: DEFENSE LOGISTICS AGENCY, DLA DISPOSITION SERVICES

Service Type: CSS/Custodial/Warehousing, Shelf Stocking & Custodial, Warehousing

Mandatory for: Buckley AFB, Aurora, CO

Mandatory Source of Supply: CW Resources, Inc., New Britain, CT

Contracting Activity: DEFENSE COMMISSARY AGENCY (DECA), DEFENSE COMMISSARY AGENCY

Service Type: Furniture Rehabilitation

Mandatory for: Parris Island USMC, Parris Island, SC

Mandatory Source of Supply: Beaufort Vocational Rehabilitation Center, Beaufort, SC

Contracting Activity: DEPT OF THE NAVY, COMMANDING GENERAL

Service Type: Janitorial/Custodial

Mandatory for: Puget Sound Naval Shipyard: Equipment Maintenance Shops, Bremerton, WA

Mandatory Source of Supply: Peninsula Services, Bremerton, WA

Contracting Activity: DEPT OF THE NAVY, US FLEET FORCES COMMAND

Service Type: Grounds Maintenance

Mandatory for: Loyalhanna & Conemaugh Dam: 400 Loyalhanna Dam Road, Saltsburgh, PA

Mandatory Source of Supply: The Burnley Workshop of the Poconos, Inc., Stroudsburg, PA

Contracting Activity: DEPT OF THE ARMY, W6QM MICC CTR-FT DIX (RC)

Service Type: Janitorial/Custodial

Mandatory for: U.S. Customs House: 220 NE 8th Avenue, Portland, OR

Mandatory Source of Supply: Relay Resources, Portland, OR

Contracting Activity: TREASURY, DEPARTMENT OF THE, DEPT OF TREAS

Service Type: Administrative Services

Mandatory for: GSA, Regional Emergency Management Control Center: GSA Complex, Auburn, WA

Mandatory Source of Supply: Relay Resources, Portland, OR

Contracting Activity: GENERAL SERVICES ADMINISTRATION, FPDS AGENCY COORDINATOR

Service Type: Custodial Services

Mandatory for: Army Reserve Contracting Center: 1605 Coraopolis Heights Road, Coraopolis, PA

Mandatory Source of Supply: Hancock County Sheltered Workshop, Inc., Weirton, WV

Contracting Activity: DEPT OF THE ARMY, W40M RHCO-ATLANTIC USAHCA

Service Type: Janitorial/Custodial

Mandatory for: U.S. Federal Building: 511 NW Broadway, Portland, OR

Mandatory Source of Supply: Relay Resources, Portland, OR

Contracting Activity: PUBLIC BUILDINGS SERVICE, GSA/PBS

Service Type: Janitorial/Custodial

Mandatory for: U.S. Army Corps of Engineers: Saylorville Lake Project, Johnston, IA

Mandatory Source of Supply: Goodwill Solutions, Inc., Johnston, IA

Contracting Activity: DEPT OF THE ARMY, W07V ENDIST ROCK ISLAND

Service Type: JWOD Staffing Services

Mandatory for: GSA, Nationwide

Mandatory Source of Supply: Columbia Lighthouse for the Blind, Washington, DC; The Lighthouse for the Blind, Inc. (Seattle Lighthouse), Seattle, WA; Blind Industries & Services of Maryland, Baltimore, MD; Alabama Industries for the Blind, Talladega, AL;

Contracting Activity: GENERAL SERVICES ADMINISTRATION, FPDS AGENCY COORDINATOR

Service Type: Shelf Stocking & Custodial

Mandatory for: Fort Monmouth, NJ

Mandatory Source of Supply: UNKNOWN,

Contracting Activity: DEFENSE COMMISSARY AGENCY (DECA), DEFENSE COMMISSARY AGENCY

Service Type: Janitorial Service

Mandatory for: US Army Corps of Engineers, Col Francis R. Hunter USARC, San Pablo, CA

Mandatory Source of Supply: Solano Diversified Services, Vallejo, CA

Contracting Activity: DEPT OF THE ARMY, W6QM MICC FT MCCOY (RC)

Service Type: Janitorial Service

Mandatory for: US Army Corps of Engineers, PFC Robert H. Young Hall USARC, Vallejo, CA

Mandatory Source of Supply: Solano Diversified Services, Vallejo, CA

Contracting Activity: DEPT OF THE ARMY, W6QM MICC FT MCCOY (RC)

Service Type: Janitorial/Custodial

Mandatory for: U.S. Army Reserve Center: 70 Rochester Hill Road, Rochester, NH

Mandatory Source of Supply: Northern New England Employment Services, Portland, ME

Contracting Activity: DEPT OF THE ARMY, W6QM MICC CTR-FT DIX (RC)

Service Type: Janitorial/Mechanical Maintenance

Mandatory for: U.S. Federal Building, Mesa, AZ

Mandatory Source of Supply: Goodwill Community Services, Inc., Phoenix, AZ

Contracting Activity: GENERAL SERVICES ADMINISTRATION, FPDS AGENCY COORDINATOR

Service Type: Janitorial/Grounds Maintenance

Mandatory for: U.S. Border Patrol: Support Building 501, Calexico, CA

Mandatory Source of Supply: ARC-Imperial Valley, El Centro, CA

Contracting Activity: GENERAL SERVICES ADMINISTRATION, FPDS AGENCY COORDINATOR

Service Type: Janitorial/Custodial

Mandatory for: U.S. Border Patrol: Customs Building and Truck Stop, San Diego, CA

Mandatory Source of Supply: Job Options, Inc., San Diego, CA

Contracting Activity: GENERAL SERVICES ADMINISTRATION, FPDS AGENCY COORDINATOR

Service Type: Administrative Services

Mandatory for: GSA, Las Vegas: Las Vegas Field Office (sub Reno), Reno, NV

Mandatory Source of Supply: UNKNOWN

Contracting Activity: GENERAL SERVICES ADMINISTRATION, FPDS AGENCY COORDINATOR

Service Type: Administrative Services

Mandatory for: GSA, Federal Supply Service: 300 Ala Moana, Honolulu, HI

Mandatory Source of Supply: Goodwill Contract Services of Hawaii, Inc., Honolulu, HI

Contracting Activity: GENERAL SERVICES ADMINISTRATION, FPDS AGENCY COORDINATOR

Service Type: Custodial Services

Mandatory for: Internal Revenue Service Building: 106 S 15th Street, Omaha, NE

Mandatory Source of Supply: Goodwill Specialty Services, Inc., Omaha, NE

Contracting Activity: PUBLIC BUILDINGS SERVICE, GSA/PUBLIC BUILDINGS SERVICE

Service Type: Laundry Service

Mandatory for: US Navy, Naval Hospital Medical Center Clinic, 2000 West Marine View Drive, Everett, WA

Mandatory Source of Supply: Northwest Center, Seattle, WA

Contracting Activity: DEPT OF THE NAVY, NAVAL HOSPITAL

Service Type: Mailroom Operations

Mandatory for: US Army, Corpus Christi Army Depot, Corpus Christi, TX

Mandatory Source of Supply: Goodwill Industries of South Texas, Inc., Corpus Christi, TX

Contracting Activity: DEPT OF THE ARMY, W6QK CCAD CONTR OFF

Service Type: Janitorial/Custodial

Mandatory for: Naval & Marine Corps Reserve Center, Broken Arrow, OK

Mandatory Source of Supply: UNKNOWN

Contracting Activity: DEPT OF THE NAVY, US FLEET FORCES COMMAND

Service Type: Janitorial/Mechanical Maintenance

Mandatory for: U.S. Federal Building: 3rd Avenue and 1st Street, Cullman, AL

Mandatory Source of Supply: Alabama Goodwill Industries, Inc., Birmingham, AL

Contracting Activity: PUBLIC BUILDINGS SERVICE, ACQUISITION DIVISION/SERVICES BRANCH

Michael R. Jurkowski,
Deputy Director, Business & PL Operations.

[FR Doc. 2019-07315 Filed 4-11-19; 8:45 am]

BILLING CODE 6353-01-P